NATIONAL SCIENCE FOUNDATION

Proposal Review Panel for International Science and Engineering; Notice of Meeting

In accordance with the Federal Advisory Committee Act (Pub., L. 92-463, as amended), the National Science Foundation (NSF) announces the following meeting:

Name and Committee Code: Proposal Review Panel for Office of International Science and Engineering—PIRE: U.S.—East Africa Research and Education Partnership: Cassava Mosaic Disease—A Paradigm for the Evolution of Insect-Transmitted Plant Virus Pathosystems—Site Visit.

Date and Time: January 28, 2019, 8 a.m.-9 p.m.; January 29, 2019, 9 a.m.-4:30 p.m.

Place: North Carolina State University, Raleigh, North Carolina, 27695.

Type of Meeting: Part open.

Contact Person: Cassandra Dudka, PIRE Program Manager, National Science Foundation, 2415 Eisenhower Avenue, Alexandria, VA 22314; Telephone 703/292-7250.

Purpose of Meeting: NSF site visit to conduct a review during year 3 of the five-year award period. To conduct an in-depth evaluation of performance, to assess progress towards goals, and to provide recommendations.

Agenda: See attached.

Reason for Closing: Topics to be discussed and evaluated during closed portions of the site review will include information of a proprietary or confidential nature, including technical information; and information on personnel. These matters are exempt under 5 U.S.C. 552b(c), (4) and (6) of the Government in the Sunshine Act.

Dated: November 14, 2018.
Crystal Robinson,
Committee Management Officer.

PIRE Site Visit Agenda

January 28, 2019

8 a.m.-9:30 a.m. Introductions (OPEN)

PIRE Rationale and Goals Partnerships

Human Resource and Infrastructure Development Institutional Support

9:30 a.m.-10 a.m. NSF Executive Session/Break (CLOSED)

10 a.m.-Noon Research

Noon-12:30 p.m. NSF Executive Session (CLOSED)

12:30 p.m.-1:30 p.m. Lunch—Discussion with Trainees (NSF, Panel and trainees)

1:30 p.m.-3 p.m. Training and International Experience (OPEN)

Outreach

Integrating Research and Education

Integrating Diversity

3 p.m.-3:30 p.m. NSF Executive Session/Break (CLOSED)

3:30 p.m.-4:15 p.m. Administration, Management, and Budget Plans (OPEN)

4:15 p.m.-5 p.m. Summary

5 p.m.-6 p.m. Executive Session/Break-Develop issues for clarification (CLOSED)

6:15 p.m.-6:30 p.m. Critical Feedback Provided to PIs & Senior investigators

7 p.m.-9 p.m. NSF Executive Session/Working Dinner (CLOSED)

Committee organizes on its own at hotel

January 29, 2019

9 a.m.-10 a.m. Summary/PI Team Response to Critical Feedback (CLOSED)

10 a.m.-4 p.m. Site Review Team Prepares Site Visit Report (CLOSED)

(Working Lunch Provided)

4 p.m.-4:30 p.m. Presentation of Site Visit Report to Principal Investigator (CLOSED)

[FR Doc. 2018-25198 Filed 11-16-18; 8:45 am]

BILLING CODE 7555-01-P